AFRICAN DEVELOPMENT FOUNDATION

Public Quarterly Meeting of the Board of Directors

AGENCY: United States African Development Foundation.

ACTION: Notice of meeting.

SUMMARY: The U.S. African Development Foundation (USADF) will hold its quarterly meeting of the Board of Directors to discuss the agency's programs and administration. This meeting will occur at the USADF office.

DATES: The meeting date is Wednesday, May 15, 2019, 9:00 a.m. to 12:00 noon.

ADDRESSES: The meeting location is USADF, 1400 I St. NW, Suite 1000, Washington, DC 20005.

FOR FURTHER INFORMATION CONTACT: June Brown, (202) 233-8882.

Authority: Public Law 96-533 (22 U.S.C. 290h).

Dated: May 1, 2019.
June B. Brown,
General Counsel.

[FR Doc. 2019-09228 Filed 5-3-19; 8:45 am]

BILLING CODE 6117-01-P